POSTAL REGULATORY COMMISSION

39 CFR Part 3050

[Docket No. RM2010-4; Order No. 327]

Periodic Reporting Rules

AGENCY: Postal Regulatory Commission.

ACTION: Proposed rule; availability of rulemaking petition.

SUMMARY: Under a new law, the Postal Service must file an annual compliance report on costs, revenues, rates, and quality of service associated with its products. It recently filed documents with the Commission to change some of the methods it uses to compile the fiscal year 2008 report. In the Commission's view, these documents constitute a rulemaking petition. Therefore, this document provides notice of the Postal Service's filing and an opportunity for public comment.

DATES: 1. Initial comments on Proposals Twenty-Three through Twenty-Five are due November 16, 2009. 2. Initial comments on Proposal Twenty-Two are due November 30, 2009.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, 202-789-6820 or stephen.sharfman@prc.gov.

SUPPLEMENTARY INFORMATION: Regulatory History, 74 FR 55504 (October 2, 2009).

On October 23, 2009, the Postal Service filed a petition to initiate an informal rulemaking proceeding to consider changes in the analytical methods approved for use in periodic reporting.¹ Proposal Twenty-Two proposes to calculate incremental costs for competitive products using the incremental cost model developed by witness Bradley and implemented by witness Kay in Docket No. R2000-1. In the attachment addressing Proposal Twenty-Two that accompanies the Petition, the Postal Service explains this methodology and how it applies to the current product structure.

¹ Petition of the United States Postal Service Requesting Initiation of a Proceeding to Consider Proposed Changes in Analytic Principles (Proposals Twenty-two-Twenty-five), October 23, 2009 (Petition).

Proposal Twenty-Three would remove an inconsistency between domestic and international mail with respect to the treatment of window service costs. Proposal Twenty-Four would change the format, but not the methodology, used to prepare the unit cost detail chart that was most recently presented in library reference USPS-FY08-NP30 in Docket No. ACR2008. Proposal Twenty-Five consists of three proposed modifications to the Flats Costs Models that were previously presented in library reference USPS-FY08-NP11 in Docket No. ACR2008.

The attachments to the Postal Service's Petition explain each proposal in more detail, including its background, objective, rationale, and estimated impact. The Petition, including the attachments, are available for review on the Commission's Web site http://www.prc.gov.

Comments on Proposal Twenty-Two are due no later than November 30, 2009. Comments on Proposals Twenty-Three through Twenty-Five are due no later than November 16, 2009.

Pursuant to 39 U.S.C. 505, Diane Monaco is appointed to serve as the officer of the Commission (Public Representative) to represent the interests of the general public in this docket.

It is ordered:

1. The Petition of the United States Postal Service Requesting Initiation of a Proceeding To Consider Proposed Changes in Analytic Principles (Proposals Twenty-two-Twenty-five), filed October 23, 2009, is granted.

2. The Commission establishes Docket No. RM2010-4 to consider the matters raised by the Postal Service's Petition.

3. Interested persons may submit comments on Proposal Twenty-Two no later than November 30, 2009, and on Proposals Twenty-Three through Twenty-Five no later than November 16, 2009.

4. The Commission will determine the need for reply comments after review of the initial comments.

5. Diane Monaco is designated to serve as the Public Representative representing the interests of the general public.

6. The Secretary shall arrange for publication of this notice in the Federal Register.

Authority: 39 U.S.C. 3652.

By the Commission.
Shoshana M. Grove,
Secretary.

[FR Doc. E9-26726 Filed 11-4-09; 8:45 am]

BILLING CODE 7710-FW-P